FEDERAL COMMUNICATIONS COMMISSION

[CC Docket No. 92-237; DA 05-1620]

Conference Call Meeting of the North American Numbering Council

AGENCY: Federal Communications Commission.

ACTION: Notice.

SUMMARY: On June 9, 2005, the Commission released a public notice announcing the June 28, 2005 conference call meeting and agenda of the North American Numbering Council (NANC). The intended effect of this action is to make the public aware of the NANC's conference call meeting and agenda.

DATES: Tuesday, June 28, 2005, 2-3 p.m. e.s.t.

ADDRESSES: Telecommunications Access Policy Division, Wireline Competition Bureau, Federal Communications Commission, 445 12th Street, SW., Room 5-A420, Washington, DC 20554. Requests to make an oral statement or provide written comments to the NANC should be sent to Deborah Blue.

FOR FURTHER INFORMATION CONTACT: Deborah Blue, Special Assistant to the Designated Federal Officer at (202) 418-1466 or Deborah.Blue@fcc.gov. The fax number is: (202) 418-2345. The TTY number is: (202) 418-0484.

SUPPLEMENTARY INFORMATION: Released: June 9, 2005.

The North American Numbering Council (NANC) has scheduled a meeting to be held by conference call on Tuesday, June 28, 2005, from 2 until 3 p.m. e.s.t. The conference bridge number for domestic participants is 1-800-377-4562 (toll free). The call in number for international participants is 1-816-650-0777 (caller pays). The Chairperson for the call is Robert Atkinson. This meeting is open to members of the general public. Due to limited port space, NANC members and Commission staff will have first priority on the call. The FCC will attempt to accommodate as many participants as possible. Members of the public may join the call as remaining port space permits, or may attend in person at the Federal Communications Commission, Portals II, 445 Twelfth Street, SW., Room 6-B516, Washington, DC 20554. The public may submit written statements to the NANC, which must be received one business day before the meeting. In addition, oral statements at the meeting by parties or entities not represented on the NANC will be permitted to the extent time permits. Such statements will be limited to five minutes in length by any one party or entity, and requests to make an oral statement must be received one business day before the meeting. Requests to make an oral statement or provide written comments to the NANC should be sent to Deborah Blue at the address under FOR FURTHER INFORMATION CONTACT, stated above.

Proposed Agenda—Tuesday, June 28, 2005, 2 p.m. e.s.t.

To discuss the NANC Future of Numbering Working Group's Report on the NANC Change Orders 399 and 400.

Federal Communications Commission.
Regina M. Brown,
Attorney, Telecommunications Access Policy Division, Wireline Competition Bureau.

[FR Doc. 05-11807 Filed 6-13-05; 8:45 am]

BILLING CODE 6712-01-P